EQUAL EMPLOYMENT OPPORTUNITY COMMISSION

Sunshine Act Meeting; Cancellation

Agency Holding the Meeting: Equal Employment Opportunity Commission.

“Federal Register” Citation of Previous Announcement: 73 FR 1343, Tuesday, January 8, 2008.

Previously Announced Time and Date of Meeting: Tuesday, January 15, 2008, 3 p.m. (Eastern Time).

Change in the Meeting: The meeting has been cancelled.

Contact Person For More Information: Stephen Llewellyn, Executive Officer on (202) 663-4070.

Dated: January 15, 2008.
Stephen Llewellyn,
Executive Officer, Executive Secretariat.

[FR Doc. 08-187 Filed 1-17-08; 8:45 am]

BILLING CODE 6570-01-M